DEPARTMENT OF DEFENSE

Department of the Army

Armament Retooling and Manufacturing Support Public/Private Task Force

AGENCY: Department of the Army, DoD.

ACTION: Notice of open meeting.

SUMMARY: Pursuant to Public Law 92-463, notice is hereby given of the next meeting of the Armament Retooling and Manufacturing Support (ARMS) Public/Private Task Force (PPTF).

Date of Meeting: October 23, 2003.

Place of Meeting: Doubletree Hotel Crystal City, 300 Army Navy Drive, Arlington, VA 22202.

Time of meeting: 7:30 a.m.-5:30 p.m. on October 23.

Proposed Agenda: The purpose of the meeting is to update the task force and public on the status of ongoing actions, new items of interest, and suggested future direction/actions. Topics for this meeting will include: Program Savings and Economic Impact; National Marketing Program Update; and Allocations of ARMS Program Funding. This meeting is open to the public.

FOR FURTHER INFORMATION CONTACT: Mr. Mike Perez, U.S. Army Joint Munitions Command, and Attn: AMSJM-CCA-IA, Rock Island Arsenal, IL 61299, phone (309) 782-3360.

SUPPLEMENTARY INFORMATION: The PPTF encourages the development of new and innovative methods to optimize the asset value of the Government-Owned, Contractor-Operated ammunition industrial base for peacetime and national emergency requirements, while promoting economical and efficient processes at minimal operating costs, retention of critical skills, community economic benefits, and a potential model for defense conversion. The U.S. Army, Joint Munitions Command, will host this meeting.

A block of rooms has been reserved at the Doubletree Crystal City hotel for the night of October 22, 2003. The Doubletree Hotel Crystal City is located at 300 Army Navy Drive, Arlington, Virginia 22202, local phone (703) 416-4100. Please make your reservations by calling 800-222-8733. Be sure to mention the guest code acronym ARMS Public/Private Task Force. Reserve your room prior to September 22nd to get the Government Rate of $150.00 a night. Also notify this office of your attendance by notifying Mike Perez, mike.perez@us.army.mil, and (309) 782- 3360 (DSN 793-3360). to To insure adequate arrangements (transportation, conference facilities, etc.) for all attendees, we request your attendance notification with this office by October 10, 2003. Corporate casual is meeting attire.

Luz D. Ortiz,
Army Federal Register Liaison Officer.

[FR Doc. 03-23172 Filed 9-10-03; 8:45 am]

BILLING CODE 3710-08-M